NATIONAL AERONAUTICS AND SPACE ADMINISTRATION

[Notice: (03-085)]

Availability for Comment; Draft Test Protocol for Detecting Possible Biohazards in Martian Samples Returned to Earth

AGENCY: National Aeronautics and Space Administration (NASA).

ACTION: Availability for comment.

SUMMARY: NASA has prepared a draft protocol for the testing and evaluation of samples that may be returned from Mars by future missions in its Mars exploration program. This protocol is designed to provide a model method whereby such samples can be tested for possible biohazards that could be present if life exists on Mars. The protocol has been prepared as a draft to guide the development of both a final protocol to accomplish biohazard and life-detection testing, and to aid in the eventual design of the facility or facilities that will be required to accomplish that testing. Public comment on this draft protocol is sought to provide for refinement of the draft and to provide information for future NASA planning efforts.

A Mars sample return mission is not currently scheduled or funded by NASA, but is being considered as one option in planning future pathways for the exploration of Mars. The draft protocol is a pre-decisional document with respect to planning for a future sample return mission.

This notice informs the public of the availability of the draft protocol for electronic distribution, and solicits public comment.

During the comment period, an electronic version (.pdf) of the NASA Conference Publication, “A Draft Test Protocol for Detecting Possible Biohazards in Martian Samples Returned to Earth,” NASA/CP-2002-211842, is available via internet at http://spacescience.nasa.gov/admin/pubs/marssamples/index.htm, and a limited number of print copies (one per addressee until the supply is exhausted) is available by writing to the address below.

DATES: Interested parties are invited to submit comments on this document in writing on or before November 28, 2003, to assure full consideration during future planning for Mars exploration missions involving surface or subsurface sample return missions.

ADDRESSES: Written comments should be addressed to Dr. John D. Rummel, NASA Headquarters, Code S, Washington, DC 20546-0001. Comments may also be sent by electronic mail to: marssamples@hq.nasa.gov.

FOR FURTHER INFORMATION CONTACT: Dr. John D. Rummel, Code S, NASA Headquarters, Washington, DC 20546-0001; 202-358-0702; electronic mail: marssamples@hq.nasa.gov.

John D. Rummel,
Planetary Protection Officer.

[FR Doc. 03-19287 Filed 7-29-03; 8:45 am]

BILLING CODE 7510-01-U